DEPARTMENT OF TRANSPORTATION

Research and Special Programs Administration, Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, Subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before November 27, 2002.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION: Copies of the applications (See Docket Number) are available for inspection at the New Docket Management Facility, PL-401, at the U.S. Department of Transportation, Nassif Building, 400 7th Street, SW., Washington, DC 20590 or at http://dms.dot.gov.

This notice of receipt of applications for new exemptions is published in accordance with part 107 of the Federal hazardous materials transportation law (49 U.S.C. 5117(b); 49 CFR 1.53(b)).

Issued in Washington, DC, on October 22, 2002.
R. Ryan Posten,
Exemptions Program Officer, Office of Hazardous Materials, Exemption and Approvals.

New Exemptions
Application No. | Docket No. | Applicant | Regulation(s) affected | Nature of exemption thereof
13129-N |  | Great Lakes Chemical Corp., El Dorado, AR | 49 CFR 173.227 | To authorize the one-time, one-way transportation in commerce of DOT-Specification UN1A1 drums for disposal containing a poison by inhalation material. (mode 1)
13135-N | RSPA-02-13521 | Space Systems/ Loral, Palo Alto, CA | 49 CFR 173.302 | To authorize the transportation in commerce of a non-DOT specification pressure vessel as part of a satellite assembly containing Division 2.2. hazardous materials (modes 1, 4)
13137-N | RSPA-02-13520 | Atlas Air, Inc., Purchase, NY | 49 CFR 175.320 | To authorize the transportation in commerce of Division 1.1., 1.2, 1.3 and 1.4 explosives, which are forbidden or exceed quantities presently authorized by cargo-only aircraft. (mode 4).

[FR Doc. 02-27391 Filed 10-25-02; 8:45 am]

BILLING CODE 4910-60-M